FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011887-003.

Title: Zim/CCNI Space Charter Agreement.

Parties: Zim Integrated Shipping Services, Ltd. (“Zim”) and Compania Chilena de Navegacion Interoceanica (“CCNI”).

Filing Party: Wayne R. Rohde, Esq.; Sher & Blackwell; 1850 M Street, NW.; Suite 900; Washington, DC 20036.

Synopsis: The amendment deletes the specific space allocation in the Jamaica/U.S. West Coast trade and provides for CCNI to charter space from Zim on a used basis only, subject to space availability on each sailing in that trade.

Agreement No.: 011898-002.

Title: APS Joint Service Agreement.

Parties: BBC Chartering & Logistic GmbH & Co. KG (“BBC”), Clipper Elite Carriers Ltd. (“Clipper”) and Asia Project Services Ltd. (“APS”).

Filing Party: Matthew Thomas, Esq.; Troutman Sanders LLP; 401 9th Street, NW.; Suite 1000; Washington, DC 20004-2134.

Synopsis: The amendment expands the geographic coverage to include the Indian Subcontinent, the Middle East, and Africa.

Agreement No.: 011950.

Title: HSDG/FOML Agreement.

Parties: Hamburg-Sud and FESCO Ocean Management Limited.

Filing Party: Wayne R. Rohde, Esq.; Sher & Blackwell LLP; 1850 M Street, NW., Suite 900; Washington, DC 20036.

Synopsis: The agreement sets forth certain understandings between the parties relating to the acquisition by Hamburg-Sud of certain assets of FESCO Ocean Management in the trade between the United States and Australia, New Zealand, and the Pacific Islands.

Agreement No.: 011951.

Title: Nina (Bermuda) Ltd. dba FTD Shipping Lines/G&G Marine, Inc. Space Charter Agreement.

Parties: Nina (Bermuda) Ltd., dba FTD Shipping Lines (“FTD Shipping”), and G&G Shipping (“G&G Shipping”).

Filing Party: Roy R. Sumner; Sumner Tariff Service, Inc.; 1012 14th Street, NW.; Suite 905; Washington, DC 20005.

Synopsis: The agreement authorizes FTD Shipping to charter space to G&G Shipping on its vessels between Port Everglades, Florida, and Grand Turk, Turks and Caicos Islands, on an “as-needed/as-available” basis.

Agreement No.: 011952.

Title: Maersk Line/APL Space Charter Agreement.

Parties: A.P. Moller-Maersk A/S (“Maersk”); APL Co. Pte Ltd.; and American President Lines, Ltd. (“APL”).

Filing Party: Wayne R. Rohde, Esq.; Sher & Blackwell LLP; 1850 M Street, NW.; Suite 900; Washington, DC 20036.

Synopsis: The agreement authorizes Maersk to charter space to APL on its service between the U.S. East Coast and Brazil, Uruguay, and Jamaica.

Agreement Nos.: 201111-001 and -002.

Title: Daily Passenger Cruise Wharfage Agreement.

Parties: Broward County and SeaEscape Entertainment, Inc.

Filing Party: Ms. Candace McCann, Office of the County Attorney; Broward County; 1850 Eller Drive; Suite 502; Fort Lauderdale, FL 33316.

Synopsis: The first amendment provides for additional daily vessel service and the second amendment revises the payment of certain wharfage charges under the agreement.

By Order of the Federal Maritime Commission.
Dated: March 17, 2006.
Bryant L. VanBrakle,
Secretary.

[FR Doc. E6-4147 Filed 3-21-06; 8:45 am]

BILLING CODE 6730-01-P